ENVIRONMENTAL PROTECTION AGENCY

[EPA-HQ-OECA-2013-0354; FRL-9915-26-OEI]

Information Collection Request Submitted to OMB for Review and Approval; Comment Request; NESHAP for Paint Stripping and Miscellaneous Surface Coating at Area Sources (Renewal)

AGENCY: Environmental Protection Agency (EPA).

ACTION: Notice.

SUMMARY: The Environmental Protection Agency has submitted an information collection request (ICR), “NESHAP for Paint Stripping and Miscellaneous Surface Coating at Area Sources (Renewal)” (EPA ICR No. 2268.04, OMB Control No. 2060-0607) to the Office of Management and Budget (OMB) for review and approval in accordance with the Paperwork Reduction Act (44 U.S.C. 3501 et seq.). This is a proposed extension of the ICR, which is currently approved through August 31, 2013. Public comments were previously requested via the Federal Register (78 FR 35023) on June 11, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before September 17, 2014.

ADDRESSES: Submit your comments, referencing Docket ID Number EPA-HQ-OECA-2013-0354, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, mail code 2227A, Environmental Protection Agency, 1200 Pennsylvania Ave. NW., Washington, DC 20460; telephone number: (202) 564-2970; fax number: (202) 564-0050; email address: yellin.patrick@epa.gov.

SUPPLEMENTARY INFORMATION:

Supporting documents which explain in detail the information that the EPA will be collecting are available in the public docket for this ICR. The docket can be viewed online at www.regulations.gov or in person at the EPA Docket Center, EPA West, Room 3334, 1301 Constitution Ave. NW., Washington, DC. The telephone number for the Docket Center is (202) 566-1744. For additional information about EPA's public docket, visit http://www.epa.gov/dockets.

Abstract: The National Emissions Standards for Hazardous Air Pollutants for Paint Stripping and Miscellaneous Surface Coating Operations at Area Sources are part of EPAs Integrated Urban Strategy to reduce cancer risk from area sources under section 112(k)(3)(C) of the Clean Air Act. Affected sources must comply with recordkeeping and reporting requirements of the rule. The owners or operators of facilities with affected operations must read instructions to determine how they will be affected by the rule. New and existing sources must submit an initial notification. New sources are also required to submit a notification of compliance status, an annual compliance report and maintain records. All surface coating sources must keep records demonstrating that spray painters have completed training. Existing paint stripping facilities using more than 150 gallons per year of methylene chloride stripping solvent must complete a methylene chloride minimization plan and submit a notification of compliance status. Annual compliance reports are also required.

Form Numbers: None.

Respondents/affected entities: Owners or operators of paint stripping and miscellaneous surface coating operations area sources.

Respondent's obligation to respond: Mandatory (40 CFR Part 63, Subpart HHHHHH).

Estimated number of respondents: 39,812 (total).

Frequency of response: Initially, annually, and occasionally.

Total estimated burden: 125,171. Burden is defined at 5 CFR 1320.3(b).

Total estimated cost: $12,157,130, includes $116,822 annualized capital or operation & maintenance costs.

Changes in the estimates: There is an apparent increase in the total estimated respondent cost burden as currently identified in the OMB Inventory of Approved Burdens. The increase is not due to any program changes. It primarily is attributed to corrections to the previous renewal's burden calculations, which omitted technical and managerial labor burdens associated with painter certification recordkeeping activities conducted by commercial miscellaneous surface coating operations at area sources, as presented in Table 1a. This omission was inconsistent with the approach used throughout the remainder of the previous renewal and is inconsistent with the approach typically used by the Agency to calculate the respondent labor burden. Also, this renewal uses updated labor rates, which further contributed to the apparent increase in the respondent burden cost. This ICR references labor rates from the Bureau of Labor Statistics to calculate the respondent cost burden.

There is a decrease in the total O&M cost as compared to the previous renewal. This change also is not due to any program changes, and is attributed directly to corrections made to the previous renewal's calculations. The previous renewal overestimated the number of initial report and notification that are required for new sources. This renewal revises the calculations which resulted in the observed decrease in the total O&M cost.

Spencer Clark,
Acting Director, Collection Strategies Division.

[FR Doc. 2014-19458 Filed 8-15-14; 8:45 am]

BILLING CODE 6560-50-P